DEPARTMENT OF AGRICULTURE

Forest Service

Plumas County Resource Advisory Committee (RAC)

AGENCY: Forest Service, USDA.

ACTION: Notice of meetings.

SUMMARY: The Plumas County Resource Advisory Committee (RAC) will hold meetings on February 25 and March 25, 2005 in Quincy, California. The purpose of the February 25 meeting is to review the Plumas County Fire Assessment and Strategy, discuss project monitoring and the long-term Payments to States legislation in addition to taking a short field trip. The purpose of the March 25 meeting is to review the pre-applications or concept papers for the last funding cycle (five) authorized by the Payments to States legislation. Outreach for the last funding cycle started in January 2005 for projects funded in 2006.

dates and addresses: The February 25 meeting will take place from 9:30 a.m.-3 p.m., in the Mineral Building at the Plumas-Sierra County Fairgrounds, 204 Fairgrounds Road, Quincy, California. The March 25 meeting will take place in the same location and will run from 9 a.m.-4 p.m.

FOR FURTHER INFORMATION CONTACT: Lee Anne Schramel Taylor, Forest Coordinator, USDA, Plumas National Forest, P.O. Box 1150, 159 Lawrence Street, Quincy, CA 95971; (530) 283-7850; or by e-mail eataylor@fs.fed.us.

SUPPLEMENTARY INFORMATION: Agenda items for the February 25 meeting include; (1) Review RAC Committee placement needs; (2) Discuss potential delegates for national RAC meeting in Reno in March; (3) Update on long-term Payments to States legislation; (4) Review financial monitoring summary; (5) Discuss possibility of RAC monitoring project and application; (6) Updates on the Plumas County Fire Assessment & Strategy; (7) Fieldtrip to Plumas County Unified School District Greenhouse, and; (8) Future meeting schedule/logistics/agenda. Agenda items for the March 25 meeting include: (1) Review Cycle (funding) concept papers, and; (2) Future meeting schedule/logistics/agenda. The meetings are open to the public and individuals may address the Committee after being recognized by the Chair. Other RAC information including previous meeting agendas and minutes may be obtained at http://www.fs.fed.us/payments. Information on Plumas County RAC Cycle 5 Funding can be obtained at http:www.fs.fed.us/r5/plumas/rac.

Dated: February 17, 2005.
James M. Peña,
Deputy Forest Supervisor.

[FR Doc. 05-3632 Filed 2-24-05; 8:45 am]

BILLING CODE 3410-11-M